ENVIRONMENTAL PROTECTION AGENCY

[ER-FRL-9021-7]

Environmental Impact Statements; Notice of Availability

Responsible Agency: Office of Federal Activities, General Information (202) 564-7146 or http://www2.epa.gov/nepa

Weekly receipt of Environmental Impact Statements

Filed 06/22/2015 Through 06/26/2015

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20150179, Final Supplement, NMFS, FL, Programmatic—Fishery Management Plan for Regulating Offshore Marine Aquaculture in the Gulf of Mexico, Review Period Ends: 08/03/2015, Contact: Jess Beck-Stimpert 727-551-5755.

EIS No. 20150180, Final, USFS, AZ, Flagstaff Watershed Protection Project, Review Period Ends: 08/05/2015, Contact: Erin Phelps 928-527-8240.

EIS No. 20150181, Final, USACE, CA, Adoption—Interstate 5 North Coast Corridor Project, Contact: Stephanie J. Hall 213-452-3410.

The U.S. Department of the Army's Corps of Engineers (USACE) has adopted the U.S. Department of Transportation's Federal Highway Administration's FEIS #20130332, filed 11/15/2013. The USACE was a cooperating agency on the project. Recirculation of the document is not necessary under 1506.3(b) of the CEQ Regulations.

Dated: June 29, 2015.
Dawn Roberts,
Management Analyst, NEPA Compliance Division, Office of Federal Activities.

[FR Doc. 2015-16329 Filed 7-1-15; 8:45 am]

BILLING CODE 6560-50-P